ENVIRONMENTAL PROTECTION AGENCY

[FRL-7658-7]

National Environmental Justice Advisory Council's (NEJAC) Puerto Rico Subcommittee; Notification of Public Comment Meeting—Cancellation of Meeting (All Times Are Eastern Standard Time)

On April 15, 2004 at (69 FR 20007) EPA issued a Federal Register notice announcing the National Environmental Justice Advisory Council (NEJAC) Puerto Rico Subcommittee Public Meeting on Cumulative Risks and Impacts. The meeting which was scheduled for May 7, 2004, in Ponce, Puerto Rico is cancelled due to a scheduling conflict. However, the NEJAC Puerto Rico Subcommittee will be accepting written comments related to cumulative risks and impacts.

Members of the public who wish to submit comments must submit them by Friday, May 7, 2004, to: Tere Rodriguez, Designated Federal Official (DFO) of the NEJAC Puerto Rico Subcommittee, Caribbean Environmental Protection Division, U. S. Environmental Protection Agency, Centro Europa Building, Suite 417, 1492 Ponce De Leon Avenue, Stop 22, San Juan, PR 00907-4127. Written comments must not exceed 10 pages. For more information please call (787) 977-5864.

Dated: April 27, 2004.
Tere Rodríguez,
Designated Federal Official, NEJAC—Puerto Rico Subcommittee.

[FR Doc. 04-10456 Filed 5-6-04; 8:45 am]

BILLING CODE 6560-50-P